ENVIRONMENTAL PROTECTION AGENCY

[ER-FRL-6638-1]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 564-7167. An explanation of the ratings assigned to draft environmental impact statements (EISs) was published in Federal Register dated April 12, 2002 (67 FR 17992).

Draft EISs

ERP No. D-AFS-J65373-MT Rating EC2, Canyon Lake Dam and Wyant Lake Dam Project, Proposal to Authorize Access to their Facilities with Prescribe Terms and Conditions, Canyon Creek Irrigation District (CCID), Bitterroot National Forest, Selway Bitterroot Wilderness, Ravalli County, MT.

Summary: EPA expressed environmental concerns and recommended integrating 404 permitting requirements into the EIS process and decision making for selecting among Canyon Lake dam rehabilitation options. EPA recommended preparing a preliminary 404(b)(1) evaluation for proposed placement of dredged or fill materials in U.S. waters, and wetlands for the dam rehabilitation. EPA believes additional information is needed to fully assess and mitigate all potential environmental impacts of the management actions.

ERP No. D-AFS-L65412-OR Rating EC2, Metolius Basin Forest Management Project, Fuel Reduction and Forest Health Management Activities, Implementation, Deschutes National Forest, Sisters Ranger District, Jefferson County, OR.

Summary: EPA expressed environmental concerns due to impacts to aquatic resources, endangered and threatened species, silvicultural practices, dispersed recreation, tribal consultation, and indirect and cumulative effects.

ERP No. LD-AFS-L65411-WA Rating NS, I-90 Wilderness Study, Review of Land Comprising of 15,000 Acres for Suitability for Preservation as Wilderness, Cle Elum and Leavenworth Ranger Districts, Olanogan and Wenatchee National Forests, Kittitas and Chelan Counties, WA.

Summary: EPA Region 10 used a screening tool to conduct a limited review of this action. Based on this screen EPA does not foresee having any environmental objections to the proposed action. Therefore, EPA will not be conducting a detailed review.

ERP No. D-MMS-L02030-AK Rating EC2, Cook Inlet Planning Area Oil and Gas Lease Sales 191 and 199, Outer Continental Shelf, Offshore Marine Environment, Cook Inlet, AK.

Summary: EPA expressed environmental concerns that an alternative that deferred both the Lower Kenai Peninsula and Barren Islands areas was not included. EPA recommended that the Environmental Justice Analysis explain the methods and criteria used to determine minority and low income significance, and identify if the low income and/or people of color communities will be disproportionately impacted. EPA also requested that mitigating measures to protect endangered and threatened species and their critical habitat be adopted as standard lease stipulations.

ERP No. D-USN-K11108-CA Rating EC2, China Lake Naval Air Weapons Station, Proposed Military Operational Increases and Implementation of Associated Comprehensive Land Use and Integrated Natural Resources Management Plans, Located on the North and South Ranges, Inyo, Kern and San Bernardino Counties, CA.

Summary: EPA raised environmental concerns about potential impacts associated with past use of munitions containing depleted uranium (DU), potential impacts associated with continued or renewed use of DU munitions under any of the fully-evaluated alternatives, and the Navy's environmental restoration efforts to date for DU contamination. EPA also raised concerns about potential air quality impacts associated with the project's implementation, including emissions of air toxics, which can be potentially reduced with mitigation.

Final EISs

ERP No. F-FSA-A65172-00, Programmatic EIS—Conservation Reserve Program Implementation and Expansion, Farm Security and Rural Investment Act of 2002 (2002 Farm Bill), in the United States.

Summary: No formal comment letter was sent to the preparing agency.

ERP No. F-NOA-K91011-00, 2003 Pacific Coast Groundfish Fishery, Groundfish Acceptable Biological Catch and Optimum Yield Specifications and Management Measures, Implementation, WA, OR and CA.

Summary: EPA expressed continuing environmental concerns regarding impacts on overfished bocaccio stocks, and the effectiveness of enforcement measures for the 2003 harvest.

ERP No. F-NPS-K61156-00, Lake Mead National Recreation Area, Long-Term Management of Lake Mead and Mohave and Associated Shoreline and Development Area, Lake Management Plan, Clark County, NV and Mohave County, AZ.

Summary: No formal comment letter was sent to the preparing agency.

ERP No. F1-FAA-D51026-00, Potomac Consolidated Teminal (PCT) Radar Approach Control Facility (TRACON) Airspace Redesign in the Baltimore-Washington Metropolitan Area. Newly Consolidated TRACON, Aircraft Performance Improvements and Emerging PCT Technologies, PA, MD, DE, VA, WV and DC.

Summary: EPA has no objection to the proposed action since our previous issues have been addressed in the final EIS.

Dated: February 25, 2003.
Joseph C. Montgomery,
Director, NEPA Compliance Division, Office of Federal Activities.

[FR Doc. 03-4780 Filed 2-27-03; 8:45 am]

BILLING CODE 6560-50-P